DEPARTMENT OF THE INTERIOR

National Park Service

Notice of Intent to Repatriate Cultural Items: Peabody Museum of Archaeology and Ethnology, Harvard University, Cambridge, MA; Correction

AGENCY: National Park Service, Interior.

ACTION: Notice; correction.

Notice is here given in accordance with the Native American Graves Protection and Repatriation Act (NAGPRA), 25 U.S.C. 3003 (5), of the intent to repatriate cultural items in the possession of the Peabody Museum of Archaeology and Ethnology, Harvard University, Cambridge, MA, that meet the definition of “unassociated funerary objects” under 25 U.S.C. 3001. The cultural items were removed from Bristol and Plymouth Counties, MA.

This notice is published as part of the National Park Service's administrative responsibilities under NAGPRA, 25 U.S.C. 3003 (d)(3). The determinations in this notice are the sole responsibility of the museum, institution, or Federal agency that has control of the cultural items. The National Park Service is not responsible for the determinations in this notice.

This notice corrects the number of unassociated funerary objects reported in a Notice of Intent to Repatriate published in the Federal Register on December 1, 2003, (FR Doc 03-29769, pages 67212-67213). In 2006, the Peabody Museum of Archaeology and Ethnology identified one additional unassociated funerary object from a site in southeastern MA. This notice changes the number of unassociated funerary objects from three to four and supercedes the previously published Notice of Intent to Repatriate.

A detailed assessment of the cultural items was made by the Peabody Museum of Archaeology and Ethnology professional staff in consultation with representatives of the Wampanoag Repatriation Confederation, on behalf of the Wampanoag Tribe of Gay Head (Aquinnah) of Massachusetts, Assonet Band of the Wampanoag Nation (a non-federally recognized Indian group), and Mashpee Wampanoag Indian Tribe (a non-federally recognized Indian group).

The four cultural items are two brass tubes, one perforated copper point, and one string of shell beads.

The two brass tubes were collected by J.V.C. Smith in 1831 from Fall River, Bristol County, MA, and were donated to the Peabody Museum of Archaeology and Ethnology, by F. Kneeland in 1886. Museum documentation indicates that the brass tubes were recovered from a grave. The Peabody Museum of Archaeology and Ethnology is not in possession of the human remains from this burial.

The interment most likely dates to the Historic/Contact period (post-A.D. 1500). According to the Peabody Museum Annual Report of 1887, the human remains from this grave site were wrapped in several layers of braided or woven bark-cloth with an outer layer of cedar bark. Woven mats and bark were commonly used in Wampanoag burials during the Late Woodland period and later (post-A.D. 1000). Sheet brass and brass objects were European trade items and therefore indicate a postcontact temporal context.

At an unknown date, a string of shell beads was recovered from a grave site in Bridgewater, Plymouth County, MA. The string of shell beads was donated to the Peabody Museum of Archaeology and Ethnology in 1899 by H.W. Hatch. The Peabody Museum of Archaeology and Ethnology is not in possession of the human remains from this burial.

The interment most likely dates to the Historic/Contact period (post-A.D. 1500). According to museum documentation, the shell beads were found with “porcelain beads,” which are not in the possession of the Peabody Museum of Archaeology and Ethnology. True porcelain beads do not appear in historic contexts until the 19th century, although beads made from money cowry shell (C. moneta) were called “porcelain,” and were imported and traded by Europeans as trade items by the 17th century, which would support a postcontact date. Even if these beads are of white glass rather than shell, glass beads were introduced by Europeans as trade items in the 17th century and would also support a postcontact date.

In 1845, one perforated copper point was collected by Mr. Howard in Fairhaven, Bristol County, MA. The same year, Mr. Howard gave the point to Mary L. Rotch. Miss. Rotch donated the copper point to the Peabody Museum of Archaeology and Ethnology in 1913. Museum documentation indicates that the copper point was recovered from a grave. The Peabody Museum of Archaeology and Ethnology is not in possession of the human remains from this burial.

This interment most likely dates to the Historic/Contact period (post 500 B.P.). Copper was a European import item and its presence supports a Contact period date. This triangular point is of the Levanna type, as are most European sheet metal projectile points found in southern New England.

Oral tradition and historical documentation indicate that Fall River, Bridgewater, and Fairhaven, MA, are within the aboriginal and historic homeland of the Wampanoag Nation. The present-day groups that are most closely affiliated with the Wampanoag Nation are the Wampanoag Tribe of Gay Head (Aquinnah) of Massachusetts, Assonet Band of the Wampanoag Nation (a non-federally recognized Indian group), and Mashpee Wampanoag Indian Tribe (a non-federally recognized Indian group).

Officials of the Peabody Museum of Archaeology and Ethnology have determined that, pursuant to 25 U.S.C. 3001 (3)(B), the four cultural items described above are reasonably believed to have been placed with or near individual human remains at the time of death or later as part of the death rite or ceremony and are believed, by a preponderance of the evidence, to have been removed from a specific burial site of a Native American individual. Officials of the Peabody Museum of Archaeology and Ethnology have also determined that, pursuant to 25 U.S.C. 3001 (2), there is a relationship of shared group identity that can be reasonably traced between the unassociated funerary objects and the Wampanoag Tribe of Gay Head (Aquinnah) of Massachusetts, and that there is a cultural relationship between the unassociated funerary objects and the Assonet Band of the Wampanoag Nation (a non-federally recognized Indian group) and Mashpee Wampanoag Indian Tribe (a non-federally recognized Indian group).

Representatives of any other Indian tribe that believes itself to be culturally affiliated with the unassociated funerary objects should contact Patricia Capone, Repatriation Coordinator, Peabody Museum of Archaeology and Ethnology, Harvard University, 11 Divinity Avenue, Cambridge, MA 02138, telephone (617) 496-3702, before January 8, 2007. Repatriation of the unassociated funerary objects to the Wampanoag Repatriation Confederation, on behalf of the Wampanoag Tribe of Gay Head (Aquinnah) of Massachusetts, Assonet Band of the Wampanoag Nation (a non-federally recognized Indian group), and Mashpee Wampanoag Indian Tribe (a non-federally recognized Indian group) may proceed after that date if no additional claimants come forward.

The Peabody Museum of Archaeology and Ethnology is responsible for notifying the Wampanoag Repatriation Confederation, Wampanoag Tribe of Gay Head (Aquinnah) of Massachusetts, Assonet Band of the Wampanoag Nation (a non-federally recognized Indian group), and Mashpee Wampanoag Indian Tribe (a non-federally recognized Indian group) that this notice has been published.

Dated: November 9, 2006
Sherry Hutt,
Manager, National NAGPRA Program.

[FR Doc. E6-20749 Filed 12-6-06; 8:45 am]

BILLING CODE 4312-50-S